DEPARTMENT OF TRANSPORTATION

Maritime Administration

Voluntary Intermodal Sealift Agreement (VISA)/Joint Planning Advisory Group (JPAG)

AGENCY: Maritime Administration, DOT.

ACTION: Synopsis of January 27-28, 2003 meeting with VISA participants.

The VISA program requires that a notice of the time, place, and nature of each JPAG meeting be published in the Federal Register. The full text of the VISA program, including these requirements, is published in 68 FR 8800-8808, dated February 25, 2003.

On January 27-28, 2003, the Maritime Administration (MARAD) and the U.S. Transportation Command (USTRANSCOM) co-hosted a classified JPAG meeting at USTRANSCOM, Scott Air Force Base, Illinois, regarding OPERATION ENDURING FREEDOM.

Because of the nature of some of the briefings, only attendees with security clearances were admitted to the classified portions of the meeting. Briefings and updates were provided to participants by various components of the Department of Defense and the Department of Transportation. The briefings and updates included: situational awareness on expectations for strategic lift; port security for CONUS and OCONUS and discussion on the Maritime Safety and Security Teams; Naval Coordination and Protection of Shipping; chemical, biological, radiological-defense status updates; and, force protection.

FOR FURTHER INFORMATION CONTACT: Mr. Taylor E. Jones II, Director, Office of Sealift Support,(202)366-2323.

Dated: March 6, 2003.
By Order of the Maritime Administrator.
Joel C. Richard,
Secretary.

[FR Doc. 03-5770 Filed 3-10-03; 8:45 am]

BILLING CODE 4910-81-P